Title 3—

The President

Proclamation 8393 of June 18, 2009

Father's Day, 2009

By the President of the United States of America

A Proclamation

The journey of fatherhood provides unique and lasting joys. Cradling a baby in his arms, a father experiences the miracle of life and an unbreakable bond. Fathers imagine a world of possibilities awaiting their children and contemplate the privilege of helping them reach that expanse of opportunity. As kids grow and mature, they look to their dad for a special kind of love and support. Providing these necessities can bring great happiness.

Fatherhood also brings great responsibilities. Fathers have an obligation to help rear the children they bring into the world. Children deserve this care, and families need each father's active participation.

Fathers must help teach right from wrong and instill in their kids the values that sustain them for a lifetime. As they encounter new and challenging experiences, children need guidance and counsel. Fathers need to talk with their kids to help them through difficult times. Parents must also help their children make the right choices by serving as strong role models. Honest and hard-working fathers are an irreplaceable influence upon their children.

Communities must do more to counsel fathers. Family and friends, and faith-based and community organizations, can speak directly with men about the sacrifices and rewards of having a child. These groups can support men as they take on the great challenges of child-rearing. Through honest and open dialogue, more men can choose to become model parents and know the wonders of fatherhood.

On Father's Day, we pay tribute to the loving and caring fathers who are strengthening their families and country. We also honor those surrogate fathers who raise, mentor, or care for someone else's child. Thousands of young children benefit from the influence of great men, and we salute their willingness to give and continue giving. We also express special gratitude to fathers who serve in the United States Armed Forces for the sacrifices they and their families make every day. All of these individuals are making great contributions, and children across the country are better off for their care.

NOW, THEREFORE, I, BARACK OBAMA, President of the United States of America, in accordance with a joint resolution of the Congress approved April 24, 1972, as amended (36 U.S.C. 109), do hereby proclaim June 21, 2009, as Father's Day. I direct the appropriate officials of the Government to display the flag of the United States on all Government buildings on this day. I urge all Americans to express their love, respect, and admiration to their fathers, and I call upon all citizens to observe this day with appropriate programs, ceremonies, and activities.

IN WITNESS WHEREOF, I have hereunto set my hand this eighteenth day of June, in the year of our Lord two thousand nine, and of the Independence of the United States of America the two hundred and thirty-third.

[FR Doc. E9-14963

Filed 6-23-09; 8:45 am]

Billing code 3195-W9-P